DEPARTMENT OF HOMELAND SECURITY

Coast Guard

33 CFR Part 117

[Docket No. USCG-2016-0774]

Drawbridge Operation Regulation; Victoria Barge Canal, Bloomington, TX

AGENCY: Coast Guard, DHS.

ACTION: Notice of deviation from drawbridge regulations.

SUMMARY: The Coast Guard has issued a temporary deviation from the operating schedule that governs the Victoria Barge Canal Railroad Bridge across Victoria Barge Canal, mile 29.4, at Bloomington, Victoria County, Texas. The deviation is necessary to conduct maintenance on the bridge. This deviation allows the bridge to remain temporarily closed-to-navigation for 12 hours.

DATES: This deviation is effective from 8 a.m. to 8 p.m. on September 1, 2016.

ADDRESSES: The docket for this deviation, [USCG-2016-0774] is available at http://www.regulations.gov. Type the docket number in the “SEARCH” box and click “SEARCH”. Click on Open Docket Folder on the line associated with this deviation.

FOR FURTHER INFORMATION CONTACT: If you have questions on this temporary deviation, call or email Donna Gagliano, Bridge Administration Branch, Coast Guard; telephone 504-671-2128, email Donna.Gagliano@uscg.mil.

SUPPLEMENTARY INFORMATION: The Victoria County Navigation District/Port of Victoria in conjunction with the Union Pacific Railroad (UPRR), requested a temporary deviation from the operating schedule of the Victoria Barge Canal Railroad Lift Bridge across Victoria Barge Canal, mile 29.4, at Bloomington, Victoria County, Texas. This deviation was requested to allow the bridge owner to replace old wire cables utilized in the raising and lowering of the bridge deck. This bridge is governed by 33 CFR 117.991.

This deviation allows the vertical lift bridge to remain closed-to-navigation from 8 a.m. to 8 p.m. on Thursday, September 1, 2016. The bridge has a vertical clearance of 22 feet above high water in the closed-to-navigation position and 50 feet above high water in the open-to-navigation position. Navigation on the waterway consists of commercial traffic,-which is primarily vessels and tows providing services to the Port of Victoria.

For the duration of the replacement of cables, vessels will not be allowed to pass through the bridge. Vessels traffic coordination will be scheduled to avoid unnecessary delays. The bridge will not be able to open for emergencies and there is no immediate alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

David M. Frank,
Bridge Administrator, Eighth Coast Guard District.

[FR Doc. 2016-19933 Filed 8-19-16; 8:45 am]

BILLING CODE 9110-04-P